DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with changes to its Petroleum Marketing Program (PMP), OMB Control Number 1905-0174. The PMP collects and publishes data on the nature, structure, and efficiency of petroleum markets at national, regional, and state levels. EIA uses this information to monitor volumes and prices for crude oil and petroleum products.

DATES: Comments on this information collection must be received no later than December 3, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Tammy Heppner, U.S. Energy Information Administration, (202) 586-4748, or by email at tammy.heppner@eia.gov. The forms and instructions are available on EIA's website at www.eia.gov/survey/.

SUPPLEMENTARY INFORMATION:

This information collection request contains:

(1) OMB No. 1905-0174;

(2) Information Collection Request Title: Petroleum Marketing Program. The surveys in this information collection request are:

Form EIA-14 Refiners' Monthly Cost Report;

Form EIA-182 Domestic Crude Oil First Purchase Report;

Form EIA-782A Refiners'/Gas Plant Operators' Monthly Petroleum Product Sales Report;

Form EIA-782C Monthly Report of Prime Supplier Sales of Petroleum Products Sold For Local Consumption;

Form EIA-821 Annual Fuel Oil and Kerosene Sales Report;

Form EIA-856 Monthly Foreign Crude Oil Acquisition Report;

Form EIA-863 Petroleum Product Sales Identification Survey;

Form EIA-877 Winter Heating Fuels Telephone Survey;

Form EIA-878 Motor Gasoline Price Survey;

Form EIA-888 On-Highway Diesel Fuel Price Survey;

(3) Type of Request: Three-year extension with changes;

(4) Purpose: The surveys included in the Petroleum Marketing Program collect volume and price information needed for determining the supply of and demand for crude oil and refined petroleum products. These surveys provide a basic set of data pertaining to the structure, efficiency, and behavior of petroleum markets. These data are published by EIA on its website, at http://www.eia.gov.

(4a) Changes to Information Collection:

Form EIA-888, On-Highway Diesel Fuel Price Survey

EIA is proposing to collect annual sales volumes of on-highway diesel fuel on Form EIA-888, On-Highway Diesel Fuel Price Survey. This survey collects weekly retail on-highway diesel fuel prices from a sample of truck stops and service stations and publishes price estimates at various regional levels and the State of California. EIA is updating its frame of retail diesel fuel outlets and proposing to redesign the sample of retail outlets using a new sample design. The new sample will replace the current sample that reports on Form EIA-888. EIA will continue to use Form EIA-888, Schedule A to collect weekly prices from the new sample and will use the new Form EIA-888, Schedule B to collect annual sales volume information and station characteristics that will be used to determine eligibility and size. EIA will use annual sales volumes of on-highway diesel fuel to determine the measure of size used for weighting data reported by the outlets selected in the new sample and are collected one time from newly sampled outlets.

Form EIA-878, Motor Gasoline Price Survey

EIA proposes to modify Schedule B of Form EIA-878, Motor Gasoline Price Survey to further clarify the collection of gasoline octane levels and ethanol content by grade for annual gasoline sales volumes. These volumes are used to determine a measure of size used for weighting data reported by the sampled outlets and are collected one time from newly sampled outlets.

Form EIA-877, Winter Heating Fuels Telephone Survey

EIA proposes to collect residential heating oil and propane prices on a monthly basis during the off-heating season (April to September) beginning April 2023 on Form EIA-877, Winter Heating Fuels Telephone Survey. This survey collects weekly residential heating oil and propane prices during the heating season, October to March, from a sample of retail outlets that sell these heating fuels. EIA receives many requests for EIA-877 summer prices each year since multiple factors can contribute to the pricing of residential heating fuels. Collecting monthly prices during the summer will meet the various customer needs, as well as provide a data series for more comprehensive EIA analysis on these markets.

Evaluative Methodology Techniques

EIA would like to conduct up to 50 evaluative methodology techniques each year for testing purposes. These methodologies will test or evaluate new terminology, unclear questions in surveys, unclear instructions, or questions that may be added to the Petroleum Marketing Program surveys. This will help improve ongoing surveys and reduce errors due to respondent confusion.

(5) Annual Estimated Number of Respondents: 22,628;

(6) Annual Estimated Number of Total Responses: 199,746;

(7) Annual Estimated Number of Burden Hours: 63,040;

(8) Annual Estimated Reporting and Recordkeeping Cost Burden: $5,147,216 (63,040 annual burden hours multiplied by $81.65 per hour). EIA estimates that respondents will have no additional costs associated with the surveys other than the burden hours and the maintenance of the information during the normal course of business.

Statutory Authority: 15 U.S.C. 772(b), 42 U.S.C. 7101 et seq.

Signed in Washington, DC, on October 29, 2021.
Samson A. Adeshiyan,
Director, Office of Statistical Methods and Research, U.S. Energy Information Administration.

[FR Doc. 2021-23951 Filed 11-2-21; 8:45 am]

BILLING CODE 6450-01-P